DEPARTMENT OF LABOR

Employment and Training Administration

[TA-W-65,591]

ABF Freight Systems Incorporated, Dayton, OH; Notice of Termination of Investigation

Pursuant to Section 221 of the Trade Act of 1974, as amended, an investigation was initiated on March 13, 2009 in response to a petition filed on behalf of workers of ABF Freight Systems Incorporated, Dayton, Ohio.

The petitioners have requested that the petition be withdrawn. Consequently, the investigation has been terminated.

Signed at Washington, DC, this 27th day of March 2009.
Elliott S. Kushner,
Certifying Officer, Division of Trade Adjustment Assistance.

[FR Doc. E9-8940 Filed 4-17-09; 8:45 am]

BILLING CODE 4510-FN-P